DEPARTMENT OF LABOR

Employment and Training Administration

[TA-W-71,763; TA-W-71,763A; TA-W-71,763B]

Acushnet Company a Subsidiary of Fortune Brands Including On-Site Leased Workers From Olsten Staffing Services Fairhaven, MA; Acushnet Company a Subsidiary of Fortune Brands Including On-Site Leased Workers From Olsten Staffing Services New Bedford, MA; Acushnet Company a Subsidiary of Fortune Brands Including On-Site Leased Workers From Olsten Staffing Services Dartmouth, MA; Amended Certification Regarding Eligibility To Apply for Worker Adjustment Assistance

In accordance with Section 223 of the Trade Act of 1974, as amended (“Act”), 19 U.S.C. 2273, the Department of Labor issued a Certification of Eligibility to Apply for Worker Adjustment Assistance on December 3, 2009 applicable to workers of Acushnet Company, a subsidiary of Fortune Brands, including on-site leased workers from Olsten Staffing Services, Fairhaven, Massachusetts. The notice will soon be published in the Federal Register.

At the request of the State agency and company official, the Department reviewed the certification for workers of the subject firm. The workers are engaged in activities related to the production of golf balls.

New findings show that the Dartmouth, Massachusetts and New Bedford, Massachusetts locations of Acushnet Company also experienced an employment decline during the relevant period. Workers at the Dartmouth, Massachusetts and New Bedford, Massachusetts facilities, including on-site leased workers from Olsten Staffing Services, were engaged in activities related to the production of golf balls in direct support of and sufficiently under the control of the Fairhaven, Massachusetts facility of the subject firm.

Accordingly, the Department is amending the certification to include workers of the Dartmouth, Massachusetts and New Bedford, Massachusetts locations of Acushnet Company as well as leased workers of Olsten Staffing Services working on-site at these locations.

The intent of the Department's certification is to include all workers of the Acushnet Company who were adversely affected by the shift in production of golf balls.

The amended notice applicable to TA-W-71,763 is hereby issued as follows:

All workers of Acushnet Company, a subsidiary of Fortune Brands, Fairhaven, Massachusetts, including on-site leased workers from Olsten Staffing Services, (TA-W-71,763), Acushnet Company, a subsidiary of Fortune Brands, Dartmouth, Massachusetts, including on-site leased workers from Olsten Staffing Services, (TA-W-71-763A) and Acushnet Company, a subsidiary of Fortune Brands, New Bedford, Massachusetts, including on-site leased workers from Olsten Staffing Services, (TA-W-71,763B), who became totally or partially separated from employment on or after July 21, 2008, through December 3, 2011, and all workers in the group threatened with total or partial separation from employment on date of certification through two years from the date of certification, are eligible to apply for adjustment assistance under Chapter 2 of Title II of the Trade Act of 1974, as amended.

Signed in Washington, DC, this 13th day of January 2010.
Elliott S. Kushner,
Certifying Officer, Division of Trade Adjustment Assistance.

[FR Doc. 2010-1881 Filed 1-29-10; 8:45 am]

BILLING CODE 4510-FN-P